MILLENNIUM CHALLENGE CORPORATION

[MCC FR 19-01]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was renewed for a second term on July 11, 2018. The MCC Advisory Council serves MCC in a solely advisory capacity and provides insight regarding innovations in infrastructure, technology and sustainability; perceived risks and opportunities in MCC partner countries; new financing mechanisms for developing country contexts; and shared value approaches. The MCC Advisory Council provides a platform for systematic engagement with the private sector and other external stakeholders and contributes to MCC's mission—to reduce poverty through sustainable, economic growth.

DATES: Thursday, April 11, 2019, from 9:00 a.m.-12:00 p.m. EDT.

ADDRESSES: The meeting will be held at the Millennium Challenge Corporation, 1099 14th St. NW, Suite 700, Washington, DC 20005.

FOR FURTHER INFORMATION CONTACT: Jennifer Rimbach 202.521.3932 MCCAdvisoryCouncil@mcc.gov or visit https://www.mcc.gov/about/org-unit/advisory-council.

SUPPLEMENTARY INFORMATION:

Agenda. During the Spring 2019 meeting of the MCC Advisory Council, members will be provided an overview and update of MCC's work. A guest speaker will present a “Progress to Date” on MCC Regional Compacts. The MCC Advisory Council will also provide advice on the compact development process and MCC's investment strategy in Burkina Faso.

Public Participation: The meeting will be open to the public. Members of the public may file written statement(s) before or after the meeting. If you plan to attend, please submit your name and affiliation no later than Thursday, April 5, 2019 to MCCAdvisoryCouncil@mcc.gov to be placed on an attendee list.

Dated: March 19, 2019.
Jeanne M. Hauch,
VP/General Counsel and Corporate Secretary.

[FR Doc. 2019-05670 Filed 3-22-19; 8:45 am]

BILLING CODE 9211-03-P